DEPARTMENT OF COMMERCE

National Oceanic and Atmospheric Administration

[RTID 0648-XA146]

North Pacific Fishery Management Council; Public Meeting

AGENCY: National Marine Fisheries Service (NMFS), National Oceanic and Atmospheric Administration (NOAA), Commerce.

ACTION: Notice of meeting.

SUMMARY: The North Pacific Fishery Management Council (Council) will hold a web conference on May 15, 2020.

DATES: The web conference meeting will be held on Friday, May 15, 2020 from 12 p.m. to 5 p.m., Alaska Standard Time.

ADDRESSES: The meeting will be held by web conference. Connect online at npfmc.adobeconnect.com/may2020, or by phone as listed at www.npfmc.org.

Council address: North Pacific Fishery Management Council, 1007 W 3rd Ave, Anchorage, Alaska 99501-2252; telephone: (907) 271-2809.

FOR FURTHER INFORMATION CONTACT: Diana Evans, Council staff; email: diana.evans@noaa.gov. For technical support please contact Maria Davis, Council staff, email: maria.davis@noaa.gov.

SUPPLEMENTARY INFORMATION:

Agenda

Friday, May 15, 2020

The agenda will be to review emergency rule requests that have been submitted for Council consideration, including but not limited to, a request to modify IFQ transfer provisions of the Halibut and Sablefish IFQ Program, and a request regarding halibut charter measures in 2C and 3A; and other business. The agenda is subject to change, and the latest version will be posted at https://meetings.npfmc.org/Meeting/Details/1463 prior to the meeting, along with meeting materials.

Connection Information

You can attend the meeting online using a computer, tablet, or smart phone, at npfmc.adobeconnect.com/may2020; or by phone as listed at www.npfmc.org.

Public Comment

Public comment will be accepted, and written comments should be submitted electronically to https://meetings.npfmc.org/Meeting/Details/1463. Deadline for written public comments is May 14, 2020, at 5 p.m.

Special Accommodations

These meetings are physically accessible to people with disabilities. Requests should be directed to Shannon Gleason at (907) 903-3107 at least 7 working days prior to the meeting date.

(Authority: 16 U.S.C. 1801 et seq.)

Dated: April 27, 2020.
Tracey L. Thompson,
Acting Deputy Director, Office of Sustainable Fisheries, National Marine Fisheries Service.

[FR Doc. 2020-09227 Filed 4-29-20; 8:45 am]

BILLING CODE 3510-22-P